DEPARTMENT OF AGRICULTURE

Food Safety and Inspection Service

[Docket No. 01-006N]

Codex Alimentarius Commission: 29th Session of the Codex Committee on Food Labelling

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring two public meetings, on Friday, March 16, 2001, and one on Wednesday, April 11, 2001. The purpose of this meeting is to provide information and receive public comments on agenda items that will be discussed at the 29th Session of the Codex Committee on Food Labelling (CCFL), which will be held in Ottawa, Canada, April 30 to May 4, 2001. The Under Secretary and FDA recognize the importance of providing interested parties the opportunity to obtain background information on the 29th Session of the Codex Committee on Food Labelling and address items on the agenda.

DATES: The public meetings are scheduled for Friday, March 16, 2001 from 1:00 p.m. to 4:00 p.m. and Wednesday, April 11, 2001 from 2:00 p.m. to 4:00 p.m.

ADDRESSES: The public meetings will be held in Room 1813, Federal Office Building 8, Food and Drug Administration, 200 C. St. SW., Washington, DC 20204. To receive copies of the documents referenced in this notice, contact the FSIS Docket Room, U.S. Department of Agriculture, Food Safety and Inspection Service, Room 102 Cotton Annex, 300 12th Street, SW., Washington, DC 20250-3700. The documents will also be accessible via the World Wide Web at the following address: http://www.fao.org/waicent/faoinfo/ECONOMIC/esn/codex/ccfl29/fl01_01e.htm. Submit one original and two copies of written comments to the FSIS Docket Room at the address above and reference docket number 01-006N. All comments submitted in response to this notice will be available for public inspection in the FSIS Docket Room between 8:30 a.m. and 4:30 p.m., Monday through Friday.

FOR FURTHER INFORMATION CONTACT: Patrick J. Clerkin, Associate U.S. Manager for Codex, U.S. Codex Office, Food Safety and Inspection Service, Room 4861, South Building, 1400 Independence Avenue SW., Washington, DC 20250. Telephone (202) 205-7760, Fax: (202) 720-3157.

SUPPLEMENTARY INFORMATION:

Background

The Codex Alimentarius Commission (Codex) was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled.

The Codex Committee on Food Labelling drafts provisions on labelling applicable to all foods; considers and endorses draft specific provisions on labelling prepared by the Codex Committees drafting standards, codes of practice, and guidelines; studies problems associated with the advertisement of food with particular reference to claims and misleading descriptions; and responds to specific labeling problems assigned to it by the Commission. The Committee is chaired by Canada.

Issues To Be Discussed at the First Public Meeting

The provisional agenda items to be discussed during the public meeting on March 16, 2001:

1. Matters Referred from other Codex Committees

2. Consideration of Labelling Provisions in Draft Codex Standards

3. Guidelines for the Production, Processing, Labelling and Marketing of Organically Produced Foods:

(a) Sections on Bees and on Additives

(b) Proposed Draft Amendment: Table 1: Substances for Use in Soil Fertilizing and Conditioning

4. Draft Amendment to the General Standard for the Labelling of Prepackaged Foods (Class Names)

5. Proposed Draft Amendment to the Guidelines on Nutrition Labelling (Section 3.2 Listing of Nutrients)

6. Proposed Draft Recommendations for the Use of Health Claims

7. Proposed Draft Amendment to the General Standard for the Labelling of Prepackaged Foods: Quantitative Declaration of Ingredients

8. Discussion Paper on Country of Origin Labeling

Issues To Be Discussed at the Second Public Meeting

The provisional agenda items to be discussed during the public meeting on April 11, 2001:

1. Draft Recommendations for the Labelling of Foods obtained through Certain Techniques of Genetic Modification/Genetic Engineering (Proposed Draft Amendment to the General Standard for the Labelling of Prepackaged Foods): Definitions

2. Draft Recommendations for the Labelling of Foods obtained through Certain Techniques of Genetic Modification/Genetic Engineering (Proposed Draft Amendment to the General Standard for the Labelling of Prepackaged Foods): Section 5—Additional Mandatory Labelling

Each issue listed will be fully described in documents distributed, or to be distributed, by the Canadian Secretariat to the Meeting. Members of the public may access or review copies of these documents (see ADDRESSES).

Public Meeting

At the March 16th public meeting, the CCFL agenda items other than those pertaining to Labelling of Foods obtained through Certain Techniques of Genetic Modification/Genetic Engineering will be described, discussed, and attendees will have the opportunity to pose questions and offer comments. At the April 11th public meeting, the agenda items pertaining to Labelling of Foods obtained through Certain Techniques of Genetic Modification/Genetic Engineering will be described, discussed, and attendees will have the opportunity to pose questions and offer comments. Written comments should state that they relate to activities of the 29th CCFL.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on-line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC on February 6, 2001.
F. Edward Scarbrough,
U.S. Manager for Codex Alimentarius.

[FR Doc. 01-5036 Filed 3-1-01; 8:45 am]

BILLING CODE 3410-DM-P